NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by July 23, 2018. This application may be inspected by interested parties at the Permit Office, address below.

ADDRESSES: Comments should be addressed to Permit Office, Office of Polar Programs, National Science Foundation, 2415 Eisenhower Avenue, Alexandria, Virginia 22314.

FOR FURTHER INFORMATION CONTACT: Nature McGinn, ACA Permit Officer, at the above address, 703-292-8030, or ACApermits@nsf.gov.

SUPPLEMENTARY INFORMATION: The National Science Foundation, as directed by the Antarctic Conservation Act of 1978 (Pub. L. 95-541, 45 CFR 670), as amended by the Antarctic Science, Tourism and Conservation Act of 1996, has developed regulations for the establishment of a permit system for various activities in Antarctica and designation of certain animals and certain geographic areas a requiring special protection. The regulations establish such a permit system to designate Antarctic Specially Protected Areas.

Application Details

1. Applicant: Permit Application: 2019-001.

Ron Naveen, Oceanites, Inc., PO Box 15259, Chevy Chase, MD 20825.

Activity for Which Permit is Requested: Take, Harmful Interference, Enter Antarctic Specially Protected Areas. The applicant proposes to continue data collections activities conducted to support the Antarctic Site Inventory. Visitor site surveys may include censusing penguin and seabird colonies throughout the Antarctic Peninsula. There is the potential for slight disturbance of the birds during surveying and censusing. This permit would address the potential for infrequent, minimal take or harmful interference of the following species: Adelie penguin (Pygoselis adeliae), chinstrap penguin (P. antarctica), gentoo penguin, (P. papua), southern giant petrel (Macronectes giganteus), southern fulmar (Fulmarus glacialoides), cape petrel (Daption capense), Antarctic blue-eyed shag (Phalacrocorax atriceps), Antarctic brown skua (Catharacta antarctica), south polar skua (C. maccormicki), kelp gull (Larus dominicanus), and Antarctic tern (Sterna vittata). While conducting visitor site surveys and censuses, the applicant would potentially enter a number of Antarctic Specially Protected Areas (ASPAs) in the Antarctic Peninsula region.

Location: Antarctic Peninsula region, including ASPA 107, Emperor Island; ASPA 108, Green Island; ASPA 109, Moe Island; APSA 110, Lynch Island; ASPA 111, Southern Powell Island and adjacent islands; ASPA 112, Coppermine Peninsula; ASPA 113, Litchfield Island; ASPA 114, Northern Coronation Island; ASPA 115, Lagotellerie Island; ASPA 117, Avian Island; ASPA 125, Fildes Peninsula; ASPA 126, Byers Peninsula; ASPA 128, Western Shore of Admiralty Bay; ASPA 129, Rothera Point; ASPA 132, Potter Peninsula; ASPA 133, Harmony Point; ASPA 134, Cierva Point and offshore islands; ASPA 139, Biscoe Point; ASPA 140, Parts of Deception Island; ASPA 144, Chile Bay (Discovery Bay); ASPA 145, Port Foster; ASPA 146, South Bay; ASPA 148, Mount Flora; ASPA 149, Cape Shirreff and San Telmo Island; ASPA 150, Ardley Island; ASPA 151, Lions Rump; ASPA 152, Western Bransfield Strait; and ASPA 153, Eastern Dallmann Bay.

Dates of Permitted Activities: September 1, 2018-August 31, 2023.

Nadene Kennedy,
Polar Coordination Specialist, Office of Polar Programs.

[FR Doc. 2018-13355 Filed 6-20-18; 8:45 am]

BILLING CODE 7555-01-P